DEPARTMENT OF LABOR

Employment and Training Administration

[TA-W-85,689]

Honeywell Aerospace a Subsidiary of Honeywell International Including On-Site Leased Workers From CorTech, PDS Tech, Donatech Corporation, Comforce, Collabera, Engineering Technical Group GS, Adecco, and Aerotek Moorestown, New Jersey; Notice of Revised Determination on Reconsideration

On March 26, 2015, the Department of Labor issued an Affirmative Determination Regarding Application for Reconsideration for the workers and former workers of Honeywell Aerospace, a subsidiary of Honeywell International, including on-site leased workers from CorTech, PDS Tech, Donatech Corporation, Comforce, Collabera, Engineering Technical Group GS, Adecco, and Aerotek, Moorestown, New Jersey (hereafter referred to as either “Honeywell Aerospace” or “subject firm”). The Notice of Determination was published in the Federal Register on April 27, 2015 (80 FR 23294).

To support the request for reconsideration, the petitioner supplied additional information regarding the transferability of the subject workers' skills to supplement that which was gathered for alternative trade adjustment assistance during the initial investigation.

Based on a careful review of previously-submitted information and additional information obtained during the reconsideration investigation, the Department of Labor determines that the workers are eligible to apply for adjustment assistance under chapter 2 of Title II of the Trade Act of 1974, as amended, and are also eligible to apply for alternative trade adjustment assistance under section 246 of the Trade Act of 1974, as amended.

Conclusion

After careful review of the additional facts obtained on reconsideration, I determine that workers of Honeywell Aerospace, a subsidiary of Honeywell International, including on-site leased workers from CorTech, PDS Tech, Donatech Corporation, Comforce, Collabera, Engineering Technical Group GS, Adecco, and Aerotek, Moorestown, New Jersey, who were engaged in employment related to the production of electromechanical avionics assemblies, meet the worker group certification criteria under section 222(a) of the Act, 19 U.S.C. 2272(a). In accordance with section 223 of the Act, 19 U.S.C. 2273, I make the following certification:

“All workers of Honeywell Aerospace, a subsidiary of Honeywell International, including on-site leased workers from CorTech, PDS Tech, Donatech Corporation, Comforce, Collabera, Engineering Technical Group GS, Adecco, and Aerotek, Moorestown, New Jersey who became totally or partially separated from employment on or after December 3, 2013, through December 30, 2016, and all workers in the group threatened with total or partial separation from employment on December 3, 2013 through December 30, 2016, are eligible to apply for adjustment assistance under Chapter 2 of Title II of the Trade Act of 1974, as amended, and are also eligible to apply for alternative trade adjustment assistance under Section 246 of the Trade Act of 1974, as amended.”

Signed in Washington, DC, this 19th day of May, 2015.
Michael W. Jaffe,
Certifying Officer, Office of Trade Adjustment Assistance.

[FR Doc. 2015-15731 Filed 6-25-15; 8:45 am]

BILLING CODE 4510-FN-P